DEPARTMENT OF STATE

[Public Notice: 10727]

Determination Pursuant to Section 451 of the Foreign Assistance Act for the Use of Funds To Support South Sudan

Pursuant to section 451 of the Foreign Assistance Act of 1961 (the “Act”) (22 U.S.C. 2261), section 1-l00(a)(l) of Executive Order 12163 and Delegation of Authority 245-2, I hereby authorize, notwithstanding any other provision of law, the use of up to $25,000,000 made available to carry out provisions of the Act (other than the provisions of chapter l of part I of the Act), to provide assistance authorized by part I of the Act to support the reconstituted Joint Monitoring and Evaluation Commission (RJMEC) and Ceasefire and Transitional Security Arrangements Monitoring and Verification Mechanism (CTSAMVM) as well as support for mediation efforts to forestall and resolve conflict that may arise between the parties to the 2018 Revitalized Agreement on the Resolution of the Conflict in the Republic of South Sudan (R-ARCSS); efforts to demobilize and prevent the recruitment of child soldiers in South Sudan; and efforts that support the management, oversight, and monitoring and evaluation of the South Sudan Peacekeeping Operations program.

This Determination and the accompanying Memorandum of Justification shall be promptly reported to the Congress. This Determination shall be published in the Federal Register.

Dated: March 27, 2019.
John J. Sullivan,
Deputy Secretary of State.

[FR Doc. 2019-07107 Filed 4-9-19; 8:45 am]

BILLING CODE 4710-25-P